DEPARTMENT OF HOMELAND SECURITY

Federal Emergency Management Agency

[Docket ID FEMA-2013-0039]

Technical Mapping Advisory Council

AGENCY: Federal Emergency Management Agency, DHS.

ACTION: Committee Management; Request for Applicants for Appointment to the Federal Emergency Management Agency's Technical Mapping Advisory Council.

SUMMARY: The Federal Emergency Management Agency (FEMA) is requesting qualified individuals interested in serving on the Technical Mapping Advisory Council (TMAC) to apply for appointment. As provided for in the Biggert-Waters Flood Insurance Reform Act of 2012, the TMAC makes recommendations to the FEMA Administrator on how to improve, in a cost-effective manner, the accuracy, general quality, ease of use, and distribution and dissemination of flood insurance rate maps (FIRMs) and risk data; and performance metrics and milestones required to effectively and efficiently map flood risk areas in the United States.

DATES: Applications will be accepted until December 2, 2013.

ADDRESSES: Applications for membership should be submitted by one of the following methods:

• Email: FEMA-TMAC@fema.dhs.gov.

• Mail: FEMA, Federal Insurance and Mitigation Administration, Risk Analysis Division, Attn: Michael Godesky or Mark Crowell, 1800 South Bell Street, Arlington, VA 20598-3035.

FOR FURTHER INFORMATION CONTACT: Michael Godesky, 1800 South Bell Street, Arlington, Virginia 20598-3035, email: FEMA-TMAC@fema.dhs.gov, phone: 202.646.2752.

SUPPLEMENTARY INFORMATION: The TMAC is an advisory committee that was established by the Biggert-Waters Flood Insurance Reform Act of 2012, 42 U.S.C. 4101a, and in accordance with the provisions of the Federal Advisory Committee Act (FACA), 5 U.S.C. App. (Pub. L. 92-463). The TMAC is required to recommend to the Administrator: (1) Mapping standards and guidelines for FIRMs and data accuracy, data quality, data currency, and data eligibility; (2) how to maintain, on an ongoing basis, FIRMs and flood insurance identification; and (3) procedures for delegating mapping activities to State and local mapping partners. The TMAC is also required to recommend to the Administrator, and other Federal agencies participating on the Council, methods for improving interagency and intergovernmental coordination on flood mapping and flood risk determination, and a funding strategy to leverage and coordinate budgets and expenditures across Federal agencies. In consultation with scientists and technical experts, other Federal agencies, and local communities, the TMAC will develop recommendations on how to ensure that FIRMs incorporate the best available climate science to assess flood risks and ensure that FEMA uses the best available methodology to consider the impact of the rise in sea level and future development on flood risk. Members of the TMAC will be appointed based on their demonstrated knowledge and competence regarding surveying, cartography, remote sensing, geographic information systems, or the technical aspects of preparing and using FIRMs. To the maximum extent practicable, FEMA will ensure that membership of the TMAC has a balance of Federal, State, local, Tribal, and private members, and includes geographic diversity, including representation from areas with coastline on the Gulf of Mexico and other States containing areas identified by the Administrator as at high risk for flooding or as areas having special flood hazards.

FEMA is requesting qualified individuals who are interested in serving on the TMAC to apply for appointment. Certain members of the TMAC, as described below, will be appointed and serve as Special Government Employees (SGE) as defined in section 202(a) of title 18 United States Code. Candidates selected for appointment as SGEs are required to complete a Confidential Financial Disclosure Form (Office of Government Ethics (OGE) Form 450). This form can be obtained by visiting the Web site of the Office of Government Ethics (http://www.oge.gov). Please do not submit this form with your application. Qualified applicants will be considered for one or more of the following membership categories:

a. One member of a recognized professional surveying association or organization (SGE appointment);

b. One member of a recognized professional mapping association or organization (SGE appointment);

c. One member of a recognized professional engineering association or organization (SGE appointment);

d. One member of a recognized professional association or organization representing flood hazard determination firms (SGE appointment);

e. One representative of the United States Geological Survey;

f. One representative of a recognized professional association or organization representing State geographic information;

g. One representative of State national flood insurance coordination offices;

h. One representative of the Corps of Engineers;

i. One member of a recognized regional flood and storm water management organization (SGE appointment);

j. Two representatives of different State government agencies that have entered into cooperating technical partnerships with the Administrator and have demonstrated the capability to produce FIRMs;

k. Two representatives of different local government agencies that have entered into cooperating technical partnerships with the Administrator and have demonstrated the capability to produce FIRMs;

l. One member of a recognized floodplain management association or organization (SGE appointment);

m. One member of a recognized risk management association or organization (SGE appointment); and

n. One State mitigation officer (SGE appointment).

Members of the TMAC will serve terms of office of two years. However, up to half (eight) of those initially appointed to the TMAC may serve one-year terms to allow for staggered turnover. There is no application form. However, applications must include the following information: The applicant's full name, home and business phone numbers, preferred email address, home and business mailing addresses, current position title & organization, resume or curriculum vitae, and the membership category of interest (e.g., State mitigation officer). Contact information is provided in the FOR FURTHER INFORMATION CONTACT section of this notice.

The TMAC will meet not less than twice a year. Members may be reimbursed for travel and per diem, and all travel for TMAC business must be approved in advance by the Designated Federal Officer. The Department of Homeland Security (DHS) does not discriminate in employment on the basis of race, color, religion, sex, national origin, political affiliation, sexual orientation, gender identity, marital status, disability and genetic information, age, membership in an employee organization, or other non-merit factor. DHS strives to achieve a widely diverse candidate pool for all of its recruitment actions. Registered lobbyists and current FEMA employees, Disaster Assistance Employees, reservists, contractors, and potential contractors will not be considered for membership.

Dated: October 23, 2013.
W. Craig Fugate,
Administrator, Federal Emergency Management Agency.

[FR Doc. 2013-26019 Filed 10-31-13; 8:45 am]

BILLING CODE 9110-12-P